DEPARTMENT OF COMMERCE

International Trade Administration

[A-570-992]

Monosodium Glutamate From the People's Republic of China: Final Results of Antidumping Duty Administrative Review; 2017-2018

AGENCY: Enforcement and Compliance, International Trade Administration, Department of Commerce.

SUMMARY: The Department of Commerce (Commerce) has completed the administrative review of the antidumping duty order on monosodium glutamate (MSG) from the People's Republic of China (China) covering the period of review (POR) November 1, 2017 through October 31, 2018. We continue to find that none of the exporters of subject merchandise demonstrated eligibility for a separate rate; therefore, each is part of the China-wide entity. We also continue to find that that the use of facts otherwise available is warranted with respect to the China-wide entity.

DATES: Applicable February 20, 2020.

FOR FURTHER INFORMATION CONTACT: Leo Ayala or Kathryn Wallace, AD/CVD Operations, Office VIII, Enforcement and Compliance, International Trade Administration, Department of Commerce, 1401 Constitution Avenue NW, Washington, DC 20230; telephone: (202) 482-3945 or (202) 482-6251, respectively.

SUPPLEMENTARY INFORMATION:

Background

Commerce published the Preliminary Results on August 30, 2019.¹ On September 9, 2019, Commerce amended its initiation to include the China-wide entity.² On September 10, 2019, Commerce issued a quantity and value (Q&V) questionnaire to the China-wide entity.³ The China-wide entity failed to submit a response to Commerce's Q&V questionnaire by the established deadline of September 20, 2019. Accordingly, on January 17, 2020, Commerce issued a Post-Preliminary Decision Memorandum, in which it preliminarily applied facts available with an adverse inference (AFA) to the China-wide entity, pursuant to sections 776(a) and 776(b) of the Tariff Act of 1930, as amended (the Act), because the China-wide entity failed to cooperate to the best of its ability by failing to provide necessary information requested by Commerce.⁴ On February 3, 2020, the petitioner timely submitted its case brief agreeing with the finding and results of Commerce's Post-Preliminary Decision Memorandum.⁵ No other case or rebuttal briefs were submitted in this review.

¹ See Monosodium Glutamate from the People's Republic of China: Preliminary Results of the Antidumping Duty Administrative Review; 2017-2018, 84 FR 45724 (August 30, 2019) (Preliminary Results).

² See Initiation of Antidumping and Countervailing Duty Administrative Reviews, 84 FR 47242 (September 9, 2019) (citing Initiation of Antidumping and Countervailing Duty Administrative Reviews, 84 FR 2159 (February 6, 2019)).

³ See Commerce's Letter, “Antidumping Duty Administrative Review on Monosodium Glutamate from the People's Republic of China: Quantity and Value Questionnaire,” dated September 10, 2019.

⁴ See Memorandum, “Antidumping Duty Administrative Review of Monosodium Glutamate from the People's Republic of China (China): Post-Preliminary Decision Memorandum Concerning the China-Wide Entity,” dated January 17, 2020 (Post-Preliminary Decision Memorandum).

⁵ The petitioner is Ajinomoto Health & Nutrition North America, Inc. (formerly Ajinomoto North America, Inc.). See Petitioner's Letter, “MSG from China: Petitioner's Case Brief,” dated February 3, 2020 (citing Post-Preliminary Decision Memorandum).

On December 26, 2019, in accordance with section 751(a)(3)(A) of the Act, Commerce extended the deadline for issuing the final results until February 26, 2020.⁶

⁶ See Memorandum, “Monosodium Glutamate from the People's Republic of China: Extension of Deadline for Final Results of Antidumping Duty Administrative Review—2017-2018,” dated December 26, 2019.

Scope of the Order

The scope of the Order covers MSG, whether or not blended or in solution with other products.⁷ For a complete description of the scope of the Order, see the Preliminary Results.⁸

⁷ See Monosodium Glutamate from the People's Republic of China: Second Amended Final Determination of Sales at Less Than Fair Value and Amended Antidumping Duty Order, 80 FR 487 (January 6, 2015) (Order).

⁸ See Preliminary Results.

Final Results of the Review

Commerce preliminarily determined that none of the 28 companies subject to this review demonstrated eligibility for separate rate status. Thus, they were found to be part of the China-wide entity.⁹ After amending the initiation of this review, and as explained in the Post-Preliminary Decision Memorandum, Commerce preliminarily applied AFA to the China-wide entity, pursuant to sections 776(a) and 776(b) of the Act, because the China-wide entity failed to cooperate to the best of its ability by failing to provide necessary information requested by Commerce.¹⁰ In the Post-Preliminary Decision Memorandum, Commerce determined a weighted-average dumping margin for the China-wide entity of 56.54 percent.¹¹ As noted above, no interested party disputed Commerce's preliminary or post-preliminary findings. As there are no changes from the Preliminary Results or Post-Preliminary Decision Memorandum, Commerce finds that there is no reason to modify its analysis for these final results. Accordingly, no decision memorandum accompanies this Federal Register notice. For further details of the issues already addressed in this review, see the Preliminary Results or the Post-Preliminary Decision Memorandum.¹²

⁹ See Preliminary Results; and Appendix for a list of the 28 companies along with the China-wide entity that are subject to this review.

¹⁰ See Post-Preliminary Decision Memorandum.

¹¹ See Post-Preliminary Decision Memorandum at 7.

¹² See Preliminary Results; see also Post-Preliminary Decision Memorandum.

In these final results of review, we continued to treat all 28 exporters subject to this review as part of the China-wide entity.¹³ The weighted-average dumping margin for the China-wide entity is 56.54 percent.¹⁴

¹³ See Preliminary Results; Post-Preliminary Decision Memorandum and Appendix. In fact, there are no companies which are currently eligible for a separate rate under this antidumping duty order.

¹⁴ See Post-Preliminary Decision Memorandum at 7.

Assessment Rates

Pursuant to section 751(a)(2)(C) of the Act and 19 CFR 351.212(b), Commerce has determined, and U.S Customs and Border Protection (CBP) shall assess, antidumping duties on all appropriate entries covered by this review. We intend to issue assessment instructions to CBP 15 days after the publication date of these final results of review.

For the China-wide entity, as well as the companies identified as part of the China-wide entity, we will instruct CBP to assess antidumping duties at an ad valorem rate of 56.54 percent to all unliquidated entries of subject merchandise during the POR which were produced or exported by the China-wide entity, including the companies noted in the Appendix.

Cash Deposit Requirements

For all shipments of subject merchandise from China, entered, or withdrawn from warehouse, for consumption on or after the publication date of the final results of this administrative review, as provided by section 751(a)(2)(C) of the Act, the cash deposit rate will be equal to the weighted-average dumping margin for the China-wide entity (i.e., 56.54 percent). These cash deposit requirements, when imposed, shall remain in effect until further notice.

Disclosure

Normally, Commerce discloses to interested parties the calculations performed in connection with final results within five days of its public announcement or, if there is no public announcement, within five days of the date of publication of this notice in accordance with 19 CFR 351.224(b). However, because Commerce applied total AFA to the China-wide entity in the final results of this administrative review in accordance with section 776 of the Act, and the applied AFA rate is based solely on a rate applied in an earlier segment of this proceeding, there are no calculations to disclose.

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act.

Dated: February 11, 2020.
Jeffrey I. Kessler,
Assistant Secretary for Enforcement and Compliance.

Appendix—List of Companies/Entities Covered by This Review

1. China-Wide Entity

2. Anhui Fresh Taste International Trade Co., Ltd.

3. Baoji Fufeng Biotechnologies Co., Ltd.

4. Blu Logistics (China) Co., Ltd.

5. Bonroy Group Limited

6. Forehigh Trade and Industry Co., Ltd.

7. Fujian Province Jianyang Wuyi MSG Co., Ltd.

8. Golden Banyan Foodstuffs Industry Co., Ltd.

9. Henan Lotus Flower Gourmet Powder Co.

10. Hong Kong Sungiven International Food Co., Limited

11. Hulunbeier Northeast Fufeng Biotechnologies Co., Ltd.

12. K&S Industry Limited

13. King Cheong Hong International

14. Langfang Meihua Bio-Technology Co., Ltd.

15. Liangshan Linghua Biotechnology Co., Ltd.

16. Lotus Health Industry Holding Group

17. Meihua Group International Trading (Hong Kong) Limited

18. Meihua Holdings Group Co., Ltd., Bazhou Branch

19. Neimenggu Fufeng Biotechnologies Co., Ltd.

20. Pudong Prime Int'l Logistics, Inc.

21. Qinhuangdao Xingtai Trade Co., Ltd.

22. S.D. Linghua M.S.G. Incorporated Co.

23. Shandong Linghua Monosodium Glutamate Incorporated Company

24. Shandong Qilu Biotechnology Group

25. Shanghai Totole Food Ltd.

26. Shijiazhuang Standard Imp & Exp Co., Ltd.

27. Sunrise (HK) International Enterprise Limited

28. Tongliao Meihua Biological Sci-Tech Co., Ltd.

29. Zhejiang Medicines & Health

[FR Doc. 2020-03368 Filed 2-19-20; 8:45 am]

BILLING CODE 3510-DS-P